OFFICE OF PERSONNEL MANAGEMENT

5 CFR Ch. I

Regulatory Agenda

AGENCY: Office of Personnel Management.

ACTION: Semiannual Regulatory Agenda.

SUMMARY: The following Office of Personnel Management (OPM) regulations are scheduled for development or review during the next year. This agenda carries out OPM's responsibilities to publish a semiannual agenda under Executive Order 12866, “Regulatory Planning and Review,” and the Regulatory Flexibility Act (5 U.S.C. chapter 6). This publication does not impose a binding obligation on OPM with regard to any specific item on the agenda. Regulatory action in addition to the items listed is not precluded.

FOR FURTHER INFORMATION CONTACT: Alexys Stanley, (202) 606-1000.

Stephen Hickman,
Federal Register Liaison, U.S. Office of Personnel Management.

Office of Personnel Management—Final Rule Stage
Sequence No. | Title | Regulation Identifier No.
397 | Requirements Related to Surprise Billing; Part II | 3206-AO29

OFFICE OF PERSONNEL MANAGEMENT (OPM)

Final Rule Stage

397. Requirements Related to Surprise Billing; Part II

Legal Authority: Pub. L. 116-260, Division BB, title I and title II

Abstract: This joint interim final rule with comment with the Departments of Health and Human Services, Labor, and Treasury would implement additional protections against surprise medical bills under the No Surprises Act, including provisions related to the independent dispute resolution processes.

Timetable:

Action | Date | FR Cite
Interim Final Rule | 10/07/21 | 86 FR 55980
Interim Final Rule Effective | 10/07/21
Interim Final Rule Comment Period End | 12/06/21

Regulatory Flexibility Analysis Required: Yes.

Agency Contact: Padma Shah, Senior Policy Analyst, Office of Personnel Management, 1900 E Street NW, Washington, DC 20415, Phone: 202 606-0004, Email: padma.shah@opm.gov.

RIN: 3206-AO29

[FR Doc. 2021-28224 Filed 1-28-22; 8:45 am]

BILLING CODE 3280-F5-P